DEPARTMENT OF COMMERCE

International Trade Administration

[A-570-836]

Glycine From the People's Republic of China: Final Results of the Changed Circumstances Review

AGENCY: Enforcement and Compliance, International Trade Administration, Department of Commerce.

SUMMARY: The Department of Commerce (Commerce) determines, in the context of the changed circumstance review (CCR) of the antidumping duty order on glycine from the People's Republic of China (China), that Salvi Chemical Industries Ltd. (Salvi) and its importers, are ineligible to participate in a certification process because, after further review of the record evidence and comments submitted, we find Salvi has not demonstrated that the sales of glycine examined are of non-Chinese origin. As a result, glycine produced by Salvi continues to be subject to the Order on glycine.

DATES: Applicable February 8, 2018.

FOR FURTHER INFORMATION CONTACT: Madeline Heeren, AD/CVD Operations, Office VI, Enforcement and Compliance, International Trade Administration, U.S. Department of Commerce, 1401 Constitution Avenue NW, Washington, DC 20230; telephone: (202) 482-9179.

SUPPLEMENTARY INFORMATION:

Background

Commerce initiated this CCR on November 16, 2016, and published the Preliminary Results on August 11, 2017.¹ Commerce has exercised its discretion to toll deadlines for the duration of the closure of the Federal Government from January 20 through 22, 2018. If the new deadline falls on a non-business day, in accordance with Commerce's practice, the deadline will become the next business day. The revised deadline for the final results of this review is now February 5, 2018.² For a description of events that have occurred since the Preliminary Results, see the Issues and Decision Memorandum.³ The Issues and Decision Memorandum is a public document and is on file electronically via Enforcement and Compliance's Antidumping and Countervailing Duty Centralized Electronic Service System (ACCESS). ACCESS is available to registered users at http://access.trade.gov, and is available to all parties in the Central Records Unit, room B8024 of the main Department of Commerce building. In addition, a complete version of the Issues and Decision Memorandum can be accessed directly at http://enforcement.trade.gov/frn/index.html. The signed Issues and Decision Memorandum and the electronic versions of the Issues and Decision Memorandum are identical in content.

¹ See Glycine from the People's Republic of China: Initiation of Antidumping Duty Changed Circumstances Review, 81 FR 81064 (November 17, 2016); see also Glycine from the People's Republic of China: Preliminary Results of Changed Circumstances Review, 82 FR 37564 (August 11, 2017) (Preliminary Results).

² See Memorandum for The Record from Christian Marsh, Deputy Assistant Secretary for Enforcement and Compliance, performing the non-exclusive functions and duties of the Assistant Secretary for Enforcement and Compliance, “Deadlines Affected by the Shutdown of the Federal Government” (Tolling Memorandum), dated January 23, 2018. All deadlines in this segment of the proceeding have been extended by 3 days. The new deadline falls on Sunday, February 4, 2018. The next business day is Monday, February 5, 2018.

³ See “Issues and Decision Memorandum for the Final Results of the Antidumping Duty Changed Circumstances Review of Glycine from the People's Republic of China,” dated concurrently with and hereby adopted in this notice (Issues and Decision Memorandum).

Scope of the Order

The product covered by this antidumping duty order is glycine, which is a free-flowing crystalline material, like salt or sugar. Glycine is produced at varying levels of purity and is used as a sweetener/taste enhancer, a buffering agent, reabsorbable amino acid, chemical intermediate, and a metal complexing agent. This proceeding includes glycine of all purity levels. Glycine is currently classified under subheading 2922.49.4020 of the Harmonized Tariff Schedule of the United States (HTSUS).⁴ Although the HTSUS subheading is provided for convenience and customs purposes, the written description of the merchandise under the order is dispositive.⁵

⁴ In separate scope rulings, Commerce determined that: (a) D(-) Phenylglycine Ethyl Dane Salt is outside the scope of the order and (b) Chinese-origin glycine exported from India remains the same class or kind of merchandise as the Chinese-origin glycine imported into India. See Notice of Scope Rulings and Anticircumvention Inquiries, 62 FR 62288 (November 21, 1997) and Circumvention Notice, respectively.

⁵ See Antidumping Duty Order: Glycine from the People's Republic of China, 60 FR 16116 (March 29, 1995) (Order).

Analysis of Comments Received

All issues raised by GEO, the domestic interested party, in its case brief are addressed in the Issues and Decision Memorandum. No other party filed a case or rebuttal brief. A list of the issues addressed in the Issues and Decision Memorandum is appended to this notice.

Final Results of the Changed Circumstances Review

Commerce finds that, based upon the record of the CCR, Salvi has not demonstrated that its sales of glycine are of non-Chinese origin, and therefore, Salvi, along with its importers, are not permitted to participate in the certification process. Thus, glycine produced by Salvi continues to be subject to the Order.⁶

⁶ This determination applies to all importers of glycine produced by Salvi, including Nutracare International (Nutracare).

Notification to Parties

This notice is the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Commerce is issuing and publishing these results in accordance with sections 751(b)(1) and (4) and 777(i) of the Tariff Act of 1930, as amended, and 19 CFR 351.216 and 19 CFR 351.221(c)(3)(i).

Dated: February 2, 2018.
Gary Taverman,
Deputy Assistant Secretary for Antidumping and Countervailing Duty Operations, Performing the Non-Exclusive Functions and Duties of the Assistant Secretary for Enforcement and Compliance.

Appendix—List of Topics Discussed in the Issues and Decision Memorandum

I. Summary

II. Background

III. Scope of the Order

IV. Discussion of Issues

Comment 1: Whether Salvi is Producing Glycine from Non-Chinese Origin Raw Materials and May Participate in the Certification Process

V. Recommendation

[FR Doc. 2018-02515 Filed 2-7-18; 8:45 am]

BILLING CODE 3510-DS-P